NUCLEAR REGULATORY COMMISSION

Sunshine Federal Register Notice

AGENCY HOLDING THE MEETINGS: Nuclear Regulatory Commission [NRC-2011-0006].

DATE: Week of July 11, 2011.

PLACE: Commissioners' Conference Room, 11555 Rockville Pike, Rockville, Maryland.

STATUS: Public and Closed.

ADDITIONAL ITEMS TO BE CONSIDERED:

Week of July 11, 2011

Tuesday, July 12, 2011

9:25 a.m. Affirmation Session (Public Meeting) (Tentative).

AREVA Enrichment Services, LLC (Eagle Rock Enrichment Facility)—Board Memorandum Certifying Question to the Commission Regarding Decommissioning Financial Assurance (Feb. 18, 2011) (Tentative).

This meeting will be Webcast live at the Web address— http://www.nrc.gov.

* * * * *

* The schedule for Commission meetings is subject to change on short notice. To verify the status of meetings, call (recording)—(301) 415-1292. Contact person for more information: Rochelle Bavol, (301) 415-1651.

* * * * *

ADDITIONAL INFORMATION: By a vote of 5-0 on July 11, 2011, the Commission determined pursuant to U.S.C. 552b(e) and 9.107(a) of the Commission's rules that the above referenced Affirmation be held on July 12, 2011, with less than one week notice to the public.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Bill Dosch, Chief, Work Life and Benefits Branch, at 301-415-6200, TDD: 301-415-2100, or by e-mail at william.dosch@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: July 11, 2011.
Rochelle C. Bavol,
Policy Coordinator, Office of the Secretary.

[FR Doc. 2011-17844 Filed 7-12-11; 11:15 am]

BILLING CODE 7590-01-P